FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001 not later than February 14, 2023.

A. Federal Reserve Bank of San Francisco (Joseph Cuenco, Assistant Vice President, Formations, Transactions and Enforcement) 101 Market Street, San Francisco, California 94105.

1. FinTech HQ Inc., Vancouver, Washington; to acquire additional voting shares of Lewis & Clark Bancorp, and thereby indirectly acquire voting shares of Lewis & Clark Bank, both of Oregon City, Oregon.

2. FinTech HQ Inc., Vancouver, Washington; to acquire additional voting shares of Pacific West Bancorp, and thereby indirectly acquire voting shares of Pacific West Bank, both of West Linn, Oregon.

Board of Governors of the Federal Reserve System.
Margaret McCloskey Shanks,
Deputy Secretary of the Board.

[FR Doc. 2023-01851 Filed 1-27-23; 8:45 am]

BILLING CODE P